COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a product previously furnished by such agency.

Comments Must Be Received on or Before: 6/27/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives, which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Recordable DVDs and CDs

NSN: 7045-01-444-5160—Compact Disc, Recordable, Single, Silver.

NSN: 7045-00-NIB-0264—Compact Disc, Recordable, 50 CDs on Spindle, White Ink Jet Printable, Silver.

NSN: 7045-01-521-4221—Compact Disk, Recordable, 50 CDs on Spindle, Silver.

Coverage: A-List for the total Government requirement as aggregated by the Defense Logistics Agency, Philadelphia, PA.

NSN: 7045-01-521-4250—Digital Video Disc, + Recordable Rewritable, 25 DVDs on Spindle, Silver.

NSN: 7045-01-521-4243—Digital Video Disc,−Recordable, 25 DVDs on Spindle, Silver.

NSN: 7045-01-521-4235—Digital Video Disc, + Recordable, 25 DVDs on Spindle, Silver.

NSN: 7045-01-521-4216—Compact Disc, Recordable, 25 CDs on Spindle, Silver.

Coverage: B-List for the broad Government requirement as aggregated by the Defense Logistics Agency, Philadelphia, PA.

NPA: North Central Sight Services, Inc., Williamsport, PA.

Contracting Activity: Defense Logistics Agency Troop Support, Philadelphia, PA.

NSN: 8105-00-NIB-1309—Can Liner, Low Density, Gusset Cut, Clear, 12x8x22.

NSN: 8105-00-NIB-1322—Can Liner, Low Density, Star Seal, Clear, 24x33.

NSN: 8105-00-NIB-1323—Can Liner, Low Density, Star Seal, Clear, 33x44.

NSN: 8105-00-NIB-1324—Can Liner, Low Density, Star Seal, Clear, 40x48.

NPA: Envision, Inc., Wichita, KS.

Contracting Activity: Department of Veterans Affairs, NAC, Hines, IL.

Coverage: C-List for 100% of the requirement of the Department of Veterans Affairs as aggregated by the Department of Veterans Affairs National Acquisition Center, Hines, IL.

NSN: 7920-01-343-3776—Wet Mop Wringer and Bucket Set, Yellow.

NPA: New York City Industries for the Blind, Inc., Brooklyn, NY.

Contracting Activity: General Services Administration, Fort Worth, TX.

Coverage: A-List for the Total Government Requirement as aggregated by the General Services Administration.

NSN: M.R. 305—Melamine Dinner Plate.

NSN: M.R. 306—Melamine Fruit Plate.

NSN: M.R. 307—21oz Melamine Tumbler.

NSN: M.R. 308—Bamboo Placemat.

NPA: Industries for the Blind, Inc., West Allis, WI.

Contracting Activity: Military Resale-Defense Commissary Agency, Fort Lee, VA.

Coverage: C-List for the requirements of military commissaries and exchanges as aggregated by the Defense Commissary Agency.

NSN: 8465-01-580-1312—MOLLE Component, Bandoleer Ammunition Pouch, OCP Pattern.

NPAs: The Arkansas Lighthouse for the Blind, Little Rock, AR. Mississippi Industries for the Blind, Jackson, MS.

Contracting Activity: Defense Logistics Agency Troop Support, Philadelphia, PA.

Coverage: C-List for 100% of the requirement of the Department of the Army, as aggregated by the Department of the Army Research, Development, & Engineering Command, Natick, MA.

Services

Service Type/Location: HVAC/Building Maintenance Services, White Sands Missile Range, NM.

NPA: Skookum Educational Programs, Bremerton, WA.

Contracting Activity: Dept of The Army, W6QM White Sands Doc, White Sands Missile Range, NM.

Service Type/Location: Facilities Maintenance, Yakima Training Center and Multipurpose Range Complex, Multipurpose Training Range, Yakima, WA.

NPA: Skookum Educational Programs, Bremerton, WA.

Contracting Activity: Dept of the Army, W6QM Ft Lewis, Directorate of Contracting, Fort Lewis, WA.

Service Type/Location: Custodial Services, WI092 Hammond USARC, 1935 Engineer Way, Hammond, WI.

NPA: Opportunity Partners Inc., Minnetonka, MN.

Contracting Activity: Dept of the Army, W6QM Army Res Contr Ctr North, Fort McCoy, WI.

Service Type/Locations: Administrative Support Services.

Communications Security Logistics Activity (USACSLA), Aberdeen Proving Ground, MD.

Communications Security Logistics Activity (USACSLA), Fort Huachuca, AZ.

U.S. Army Information Systems Engineering Command (USAISEC), Fort Huachuca, AZ.

NPA: DePaul Industries, Portland, OR.

Contracting Activity: Dept of the Army, W4GV FLD OFC Ft Huachuca, Fort Huachuca, AZ.

Service Type/Location: Custodial Service, Radiological and Environmental Sciences Laboratory (RESL) Lab, Bldg. IF 683, DOE, 2351 North Boulevard, Idaho Falls, ID.

NPA: Development Workshop, Inc., Idaho Falls, ID.

Contracting Activity: Department of Energy, Idaho Operations Office, Idaho Falls, ID.

Deletion

Regulatory Flexibility Act Certification

I certify that the following action will not have a significant impact on a substantial number of small entities. The major factors considered for this certification were:

1. If approved, the action will not result in additional reporting, recordkeeping or other compliance requirements for small entities.

2. If approved, the action may result in authorizing small entities to furnish the product to the Government.

3. There are no known regulatory alternatives, which would accomplish the objectives of the Javits-Wagner-O'Day Act (41 U.S.C. 46-48c) in connection with the product proposed for deletion from the Procurement List.

End of Certification

The following product is proposed for deletion from the Procurement List:

Product

Inkjet Printer Cartridge

NSN: 7510-01-555-6166—compatible with Epson Part No. T041020 Tri-color.

NPA: Alabama Industries for the Blind, Talladega, AL.

Contracting Activity: General Services Administration, New York, NY.

Barry S. Lineback,
Director, Business Operations.

[FR Doc. 2011-13251 Filed 5-26-11; 8:45 am]

BILLING CODE 6353-01-P